DEPARTMENT OF THE INTERIOR

Bureau of Land Management

[OR-958-04-1430-EU; GP-05-0011]

Receipt of Application for Conveyance of Mineral Interests, Josephine County, OR [OR 60700]

AGENCY: Bureau of Land Management (BLM), Interior.

ACTION: Notice of mineral conveyance application.

SUMMARY: This action informs the public of the receipt of an application from Stephen E. Evensen of Murphy, Oregon for conveyance of 20 acres of federal mineral estate from lands administered by the BLM in the Medford District.

EFFECTIVE DATE: January 28, 2005.

FOR FURTHER INFORMATION CONTACT: Phyllis Gregory, BLM Oregon/Washington State Office, P.O. Box 2965, Portland, Oregon 97208, 503-808-6188.

SUPPLEMENTARY INFORMATION: Notice is hereby given that pursuant to Section 209 of the Act of October 21, 1976 (90 Stat. 2757), Stephen E. Evensen has filed an application to purchase the Federally-owned mineral estate in the land described below:

Willamette Meridian,

T. 37 S., R. 05 W.,

Sec. 09, W½NW¼SE¼.

The area described contains 20 acres, more or less, in Josephine County, Oregon. On May 19, 2004, the surface estate was offered to the Evensen family following the processing of a class 1 application for Color-of-Title (OR-57154). Mr. Evensen desires to acquire the mineral estate beneath the 20 acres of BLM administered lands included in the color-of-title application to effectively acquire fee title to the land. The mineral interests being offered for conveyance have no known mineral value.

Upon publication of this notice in the Federal Register, the mineral interest described above will be segregated to the extent that it will not be subject to appropriation under the public land laws including the mineral laws. The segregative effect of the application shall terminate either upon issuance of a patent or other document of conveyance to such mineral interests, upon final rejection of the application, or two years from the date of filing of the application, June 30, 2004, whichever comes first.

(Authority: 43 CFR 2720.1-1(b)).
Dated: October 25, 2004.
Robert D. DeViney, Jr.,
Chief, Branch of Realty and Records Services.

[FR Doc. 05-1590 Filed 1-27-05; 8:45 am]

BILLING CODE 4310-33-P